DEPARTMENT OF THE INTERIOR

Bureau of Safety and Environmental Enforcement

30 CFR Part 250

[Docket ID: BSEE-2017-0008; 190E1700D2 ETISF0000.EAQ000 EEEE500000]

RIN 1014-AA37

Oil and Gas and Sulphur Operations on the Outer Continental Shelf—Oil and Gas Production Safety Systems; Corrections

AGENCY: Bureau of Safety and Environmental Enforcement, Interior.

ACTION: Correcting amendments.

SUMMARY: On September 28, 2018, the Bureau of Safety and Environmental Enforcement (BSEE) published a final rule that revised certain BSEE-administered regulations. This document corrects the final regulations.

DATES: Effective on May 29, 2019.

FOR FURTHER INFORMATION CONTACT: Kelly Odom, Regulations and Standards Branch, 703-787-1775 or by email: regs@bsee.gov.

SUPPLEMENTARY INFORMATION: BSEE published the final rule: Oil and Gas and Sulphur Operations on the Outer Continental Shelf—Oil and Gas Production Safety Systems (1014-AA37), on September 28, 2018 (83 FR 49216). This correction to that publication is necessary to modify the amendatory instructions in the regulatory text of the final rule related to the formatting of certain tables. The Office of the Federal Register has informed BSEE that it must remove the instruction to print certain tables in the final regulatory text as photographs in the Federal Register publication in order to facilitate the printing of the final regulatory text in the Code of Federal Regulations by the Government Publishing Office. Accordingly, BSEE publishes this correction so that the tables as printed in the Federal Register are formatted to be more readily susceptible to publication in the Code of Federal Regulations. This correction is clerical in nature only, and does not impact the substantive requirements of the final rule.

List of Subjects in 30 CFR Part 250

Administrative practice and procedure, Continental shelf, Continental shelf—mineral resources, Continental shelf—rights-of-way, Environmental impact statements, Environmental protection, Government contracts, Incorporation by reference, Investigations, Oil and gas exploration, Penalties, Pipelines, Reporting and recordkeeping requirements, Sulfur.

For the reasons stated in the preamble, the Bureau of Safety and Environmental Enforcement (BSEE) amends 30 CFR part 250 as follows:

PART 250—OIL AND GAS AND SULFUR OPERATIONS IN THE OUTER CONTINENTAL SHELF

1. The authority citation for part 250 continues to read as follows:

Authority: 30 U.S.C. 1751, 31 U.S.C. 9701, 33 U.S.C. 1321(j)(1)(C), 43 U.S.C. 1334.

Subpart H—Oil and Gas Production Safety Systems

2. Revise § 250.842 to read as follows:

§ 250.842 Approval of safety systems design and installation features.

(a) Before you install or modify a production safety system, you must submit a production safety system application to the District Manager. The District Manager must approve your production safety system application before you commence production through or otherwise use the new or modified system. The application must include the design documentation prescribed as follows:

You must submit: | Details and/or additional requirements:
(1) Safety analysis flow diagram (API RP 14C, Annex B) and Safety Analysis Function Evaluation (SAFE) chart (API RP 14C, section 6.3.3) (incorporated by reference in § 250.198) | Your safety analysis flow diagram must show the following: (i) Well shut-in tubing pressure; (ii) Pressure relieving device set points; (iii) Size, capacity, and design working pressures of separators, flare scrubbers, heat exchangers, treaters, storage tanks, compressors, and metering devices;
| (iv) Size, capacity, design working pressures, and maximum discharge pressure of hydrocarbon-handling pumps;
| (v) Size, capacity, and design working pressures of hydrocarbon-handling vessels, and chemical injection systems handling a material having a flash point below 100 degrees Fahrenheit for a Class I flammable liquid as described in API RP 500 and API RP 505 (both incorporated by reference in § 250.198); and
| (vi) Piping sizes and maximum allowable working pressures as determined in accordance with API RP 14E (incorporated by reference in § 250.198), including the locations of piping specification breaks.
(2) Electrical one-line diagram; | Showing elements including generators, circuit breakers, transformers, bus bars, conductors, automatic transfer switches, uninterruptable power supply (UPS) and associated battery banks, dynamic (motor) loads, and static loads (e.g., electrostatic treater grid, lighting panels). You must also include a functional legend.
(3) Area classification diagram; | A plan for each platform deck and outlining all classified areas. You must classify areas according to API RP 500 or API RP 505 (both incorporated by reference in § 250.198). The plan must contain: (i) All major production equipment, wells, and other significant hydrocarbon and class 1 flammable sources, and a description of the type of decking, ceiling, walls (e.g., grating or solid), and firewalls; and (ii) The location of generators and any buildings (e.g., control rooms and motor control center (MCC) buildings) or major structures on the platform.
(4) A piping and instrumentation diagram, for new facilities; | A detailed flow diagram which shows the piping and vessels in the process flow, together with the instrumentation and control devices.
(5) The service fee listed in § 250.125; | The fee you must pay will be determined by the number of components involved in the review and approval process.

(b) You must develop and maintain the following design documents and make them available to BSEE upon request:

Diagram: | Details and/or additional requirements:
(1) Additional electrical system information; | (i) Cable tray/conduit routing plan that identifies the primary wiring method (e.g., type cable, cable schedule, conduit, wire); and
| (ii) Panel board/junction box location plan, if this information is not shown on the area classification diagram required in paragraph (a)(3) of this section.
(2) Schematics of the fire and gas-detection systems; | Showing a functional block diagram of the detection system, including the electrical power supply and also including the type, location, and number of detection sensors; the type and kind of alarms, including emergency equipment to be activated; and the method used for detection.
(3) Revised piping and instrumentation diagram for existing facilities; | A detailed flow diagram which shows the piping and vessels in the process flow, together with the instrumentation and control devices.

(c) In the production safety system application, you must also certify the following:

(1) That all electrical systems were designed according to API RP 14F or API RP 14FZ, as applicable (incorporated by reference in § 250.198);

(2) That the design documents for the mechanical and electrical systems that you are required to submit under paragraph (a) of this section are sealed by a licensed professional engineer. For modified systems, only the modifications are required to be sealed by a licensed professional engineer(s). The professional engineer must be licensed in a State or Territory of the United States and have sufficient expertise and experience to perform the duties; and

(3) That a hazards analysis was performed in accordance with § 250.1911 and API RP 14J (incorporated by reference in § 250.198), and that you have a hazards analysis program in place to assess potential hazards during the operation of the facility.

(d) Within 90 days after placing new or modified production safety systems in service, you must submit to the District Manager the as-built diagrams for the new or modified production safety systems outlined in paragraphs (a)(1), (2), and (3) of this section. You must certify in an accompanying letter that the as-built design documents have been reviewed for compliance with applicable regulations and accurately represent the new or modified system as installed. The drawings must be clearly marked “as-built.”

(e) You must maintain approved and supporting design documents required under paragraphs (a) and (b) of this section at your offshore field office nearest the OCS facility or at other locations conveniently available to the District Manager. These documents must be made available to BSEE upon request and must be retained for the life of the facility. All approved designs are subject to field verifications.

3. Amend § 250.851 by revising paragraph (a)(2) to read as follows:

§ 250.851 Pressure vessels (including heat exchangers) and fired vessels.

(a) * * *

Item name | Applicable codes and requirements
* * * * * * *
(2) Existing uncoded pressure and fired vessels: | Must be justified and approval obtained from the District Manager for their continued use.
(i) With an operating pressure greater than 15 psig; and
(ii) That are not code stamped in accordance with the ASME Boiler and Pressure Vessel Code
* * * * * * *

* * * * *

4. Amend § 250.873 by revising paragraph (b)(3) to read as follows:

§ 250.873 Subsea gas lift requirements.

* * * * *

(b) * * *

If your subsea gas lift system introduces the lift gas to the . . . | Then you must install a: ANSI/API Spec 6A and API Spec 6AV1 (both incorporated by reference as specified in § 250.198) gas-lift shutdown valve (GLSDV), and . . . | Then you must install a: FSV on the gas-lift supply pipeline . . . | Then you must install a: PSHL on the gas-lift supply . . . | Then you must install a: ANSI/API Spec 6A and API Spec 6AV1 manual isolation valve . . . | In addition, you must
* * * * * * *
(3) Pipeline risers via a gas-lift line contained within the pipeline riser | Meet all of the requirements for the GLSDV described in §§ 250.835(a), (b), and (d) and 250.836 on the gas-lift supply pipeline | upstream (in-board) of the GLSDV | flowline upstream (in-board) of the FSV | downstream (out board) of the GLSDV | (i) Ensure that the gas-lift supply flowline from the gas-lift compressor to the GLSDV is pressure-rated for the MAOP of the pipeline riser.
| Attach the GLSDV by flanged connection directly to the ANSI/API Spec. 6A component used to suspend and seal the gas-lift line contained within the production riser. To facilitate the repair or replacement of the GLSDV or production riser BSDV, you may install a manual isolation valve between the GLSDV and the ANSI/API Spec. 6A component used to suspend and seal the gas-lift line contained within the production riser, or outboard of the production riser BSDV and inboard of the ANSI/API Spec. 6A component used to suspend and seal the gas-lift line contained within the production riser |  |  |  | (ii) Ensure that any surface equipment associated with the gas-lift system is rated for the MAOP of the pipeline riser. (iii) Ensure that the gas-lift compressor discharge pressure never exceeds the MAOP of the pipeline riser. (iv) Suspend and seal the gas-lift flowline contained within the production riser in a flanged ANSI/API Spec. 6A component such as an ANSI/API Spec. 6A tubing head and tubing hanger or a component designed, constructed, tested, and installed to the requirements of ANSI/API Spec. 6A. (v) Ensure that all potential leak paths upstream or near the production riser BSDV on the platform provide the same level of safety and environmental protection as the production riser BSDV. (vi) Ensure that this complete assembly is fire-rated for 30 minutes.

* * * * *

Joseph R. Balash,
Assistant Secretary—Land and Minerals.

[FR Doc. 2019-11079 Filed 5-28-19; 8:45 am]

BILLING CODE 4310-VH-P